DEPARTMENT OF ENERGY

Federal Energy Regulatory Commission

Combined Notice of Filings #1

Take notice that the Commission received the following electric rate filings:

Docket Numbers: ER18-178-000.

Applicants: Imperial Valley Solar 3, LLC.

Description: Compliance filing: Imperial Valley Solar 3, LLC. Exhibit C Assignment and Assumption to be effective 9/21/2017.

Filed Date: 10/30/17.

Accession Number: 20171030-5108.

Comments Due: 5:00 p.m. ET 11/20/17.

Docket Numbers: ER18-179-000.

Applicants: PJM Interconnection, L.L.C.

Description: § 205(d) Rate Filing: Queue Position #AA2-081, Original Service Agreement No. 4702 to be effective 9/28/2017.

Filed Date: 10/30/17.

Accession Number: 20171030-5110.

Comments Due: 5:00 p.m. ET 11/20/17.

Docket Numbers: ER18-180-000.

Applicants: PJM Interconnection, L.L.C.

Description: § 205(d) Rate Filing: Revisions to the OA, Sch. 6, sec. 1.5 re: Extending 30-day proposal window to 60 to be effective. 1/1/2018.

Filed Date: 10/30/17.

Accession Number: 20171030-5139.

Comments Due: 5:00 p.m. ET 11/20/17.

Docket Numbers: ER18-181-000.

Applicants: Arizona Public Service Company.

Description: Tariff Cancellation: Notice of Cancellation—Service Agreement No. 346 to be effective 12/31/2017.

Filed Date: 10/30/17.

Accession Number: 20171030-5159.

Comments Due: 5:00 p.m. ET 11/20/17.

Docket Numbers: ER18-182-000.

Applicants: PJM Interconnection, L.L.C.

Description: § 205(d) Rate Filing: 3rd Quarter 2017 Updates to OA-RAA Member Lists to be effective 9/30/2017.

Filed Date: 10/30/17.

Accession Number: 20171030-5163.

Comments Due: 5:00 p.m. ET 11/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2017.
Nathaniel J. Davis, Sr.,
Deputy Secretary.

[FR Doc. 2017-23939 Filed 11-2-17; 8:45 am]

BILLING CODE 6717-01-P